DEPARTMENT OF HEALTH AND HUMAN SERVICES

Administration for Community Living

Agency Information Collection Activities; Proposed Collection; Comment Request; Chronic Disease Self-Management Education Program Standardized Data Collection

AGENCY: Administration on Aging (AoA), Administration for Community Living (ACL), HHS.

ACTION: Notice.

Subject

SUMMARY: The Administration on Aging (AoA) is announcing an opportunity for public comment on the proposed collection of certain information. Under the Paperwork Reduction Act of 1995 (the PRA), Federal agencies are required to publish notice in the Federal Register concerning each proposed collection of information, including each proposed extension of an existing collection of information, and to allow 60 days for public comment in response to the notice. This notice solicits comments on the information collection requirements relating to the Chronic Disease Self-Management Education Program.

DATES: Submit written or electronic comments on the collection of information by September 21, 2012.

ADDRESSES: Submit electronic comments on the collection of information to: Michele.boutaugh@aoa.hhs.gov. Submit written comments on the collection of information to Michele Boutaugh, U.S. Administration on Aging, 61 Forsyth Street SW., Suite 5M69, Atlanta, GA 30303-8909.

FOR FURTHER INFORMATION CONTACT: Michele Boutaugh, 404-987-3411 or Michele.boutaugh@aoa.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The “Empowering Older Adults and Adults with Disabilities through Chronic Disease Self-Management Education (CDSME) Programs” cooperative agreement program is financed through 2012 Prevention and Public Health Funds. The statutory authority for cooperative agreements under this program announcement is contained in Section 1701(a)(3)(A-B), Section 1701(a)(4), and Section 1703(a)(4) of the Public Health Service Act; and Consolidated Appropriations Act, Fiscal Year 2012, Public Law 112-74; and the Patient Protection and Affordable Care Act, Public Law 111-148; and Title IV, Section 4002 of the Affordable Care Act (PPHF).

This data collection is necessary for monitoring program operations and outcomes. AoA proposes to use the following tools: (1) Semi-annual progress reports to monitor grantee progress; (2) an Annual Integrated Services Delivery System Assessment Tool to determine grantee's progress in developing sustainable program delivery systems; (3) an Organization Data form to record location of sites where workshops are held which will allow mapping of the delivery infrastructure; and (4) a set of tools used to collect information at each workshop completed by the workshop leaders (Workshop Information Cover Sheet and Attendance Log) and a Participant Information Survey completed by each participant to document their demographic and health characteristics, including whether the participant has a disability. The Participant Survey also requests the last 4 numbers of the social security number to allow for potential Medicare claims matching and an analysis of changes in health care utilization post participation. AoA proposes to gather data using an online data entry system for the workshop and participant survey data.

The proposed FY2012 Data Collection Tools can be found at AoA's Web site at: http://www.aoa.gov/AoARoot/AoA_Programs/Tools_Resources/collection_tools.aspx.

ACL estimates the burden of this collection of information as 400 hours for State Governments, 1,170 hours for local agency staff, and 2,000 hours for individuals—Total burden is 3,570 hours per year.

Dated: July 17, 2012.
Kathy Greenlee,
Administrator and Assistant Secretary for Aging.

[FR Doc. 2012-17752 Filed 7-20-12; 8:45 am]

BILLING CODE 4154-01-P